DEPARTMENT OF DEFENSE

Office of the Secretary

[Docket ID DOD-2011-OS-0032]

Privacy Act of 1974; System of Records

AGENCY: Office of the Secretary, DoD.

ACTION: Notice to Alter a System of Records.

SUMMARY: The Office of the Secretary of Defense proposes to alter a system of records in its inventory of record systems subject to the Privacy Act of 1974 (5 U.S.C. 552a), as amended.

DATES: This proposed action would be effective without further notice on April 14, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Cindy Allard at (703) 588-6830, or the Chief, OSD/JS Privacy Office, Freedom of Information Directorate, Washington Headquarters Services, 1155 Defense Pentagon, Washington, DC 20301-1155.

SUPPLEMENTARY INFORMATION: The Office of the Secretary of Defense notices for systems of records subject to the Privacy Act of 1974 (5 U.S.C. 552a), as amended, have been published in the Federal Register and are available from the address above.

The proposed system report, as required by 5 U.S.C. 552a(r) of the Privacy Act of 1974, as amended, was submitted on March 8, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 9, 2011.
Morgan F. Park,
Alternate OSD Federal Register Liaison Officer, Department of Defense.

DMDC 05

System name:

Joint Duty Assignment Management Information System (JDAMIS) (October 2, 2007, 72 FR 56069).

Changes:

* * * * *

Categories of individuals covered by the system:

Delete entry and replace with “All military officers who are serving or have served in billets designated as joint duty assignment positions; are attending or have completed joint professional military education schools; have earned approved joint experience or discretionary points; are designated as joint qualified at various levels of qualification; or are eligible to be nominated and designated at various joint qualification levels.”

Categories of records in the system:

Delete entry and replace with “Information on individuals includes name, Social Security Number (SSN), date of birth, gender, date of rank, military branch, occupation, duty station, joint professional military education status, joint qualification level, and departure reason. The information on billets includes service, unit identification code, tour length, rank, job title, skill, and critical billet code.”

Authority for maintenance of the system:

Delete entry and replace with “10 U.S.C. 136, Under Secretary of Defense for Personnel and Readiness; 10 U.S.C. 38, Joint Officer Management; and E.O. 9397 (SSN), as amended.”

Purpose(s):

Delete entry and replace with “To track military officers in joint duty assignments and document a Joint Qualified Officer (JQO) level. Records are also used as a management tool for statistical analysis, tracking, reporting to Congress, evaluating program effectiveness, and conducting research.”

* * * * *

Retrievability:

Delete entry and replace with “Records are retrieved by name and/or SSN.”

* * * * *

System manager(s) and address:

Delete entry and replace with “Deputy Director, Defense Manpower Data Center, 1600 Wilson Boulevard, Suite 400, Arlington, VA 22209-2593.”

Notification procedure:

Delete entry and replace with “Individuals seeking to determine whether information about themselves is contained in this system should address written inquiries to the Deputy Director, Defense Manpower Data Center, 1600 Wilson Boulevard, Suite 400, Arlington, VA 22209-2593.”

Written requests should contain the individual's full name, SSN, date of birth, and current address and telephone number.”

* * * * *

DMDC 05

System name:

Joint Duty Assignment Management Information System (JDAMIS).

System location:

Defense Manpower Data Center, DoD Center Monterey Bay, 400 Gigling Road, Seaside, CA 93955-6771.

Categories of individuals covered by the system:

All military officers who are serving or have served in billets designated as joint duty assignment positions; are attending or have completed joint professional military education schools; have earned approved joint experience or discretionary points; are designated as joint qualified at various levels of qualification; or are eligible to be nominated and designated at various joint qualification levels.

Categories of records in the system:

Information on individuals includes name, Social Security Number (SSN), date of birth, gender, date of rank, military branch, occupation, duty station, joint professional military education status, joint qualification level, and departure reason. The information on billets includes service, unit identification code, tour length, rank, job title, skill, and critical billet code.

Authority for maintenance of the system:

10 U.S.C. 136, Under Secretary of Defense for Personnel and Readiness; 10 U.S.C. 38, Joint Officer Management; and E.O. 9397 (SSN), as amended.

Purpose(s):

To track military officers in joint duty assignments and document a Joint Qualified Officer (JQO) level. Records are also used as a management tool for statistical analysis, tracking, reporting to Congress, evaluating program effectiveness, and conducting research.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD `Blanket Routine Uses' set forth at the beginning of the Office of the Secretary of Defense (OSD) compilation of systems of records notices apply to this system.

Policies and practices for storing, retrieving, accessing, retaining, and disposing of records in the system:

Storage:

Electronic storage media.

Retrievability:

Records are retrieved by name and/or SSN.

Safeguards:

Electronic records are maintained in a controlled area accessible only to authorized personnel. Entry to these areas is restricted by the use of locks, guards, and administrative procedures. Access to personal information is limited to those who require the records in the performance of their official duties. Access to personal information is further restricted by the use of passwords which are changed periodically.

Retention and disposal:

Delete when 5 years old or when no longer needed for operational purposes, whichever is later.

System manager(s) and address:

Deputy Director, Defense Manpower Data Center, 1600 Wilson Boulevard, Suite 400, Arlington, VA 22209-2593.

Notification procedure:

Individuals seeking to determine whether information about themselves is contained in this system should address written inquiries to the Deputy Director, Defense Manpower Data Center, 1600 Wilson Boulevard, Suite 400, Arlington, VA 22209-2593.

Written requests should contain the individual's full name, SSN, date of birth, and current address and telephone number.

Record access procedures:

Individuals seeking access to information about themselves contained in this system should address written inquiries to the Office of the Secretary of Defense/Joint Staff, Freedom of Information Act Requester Service Center, 1155 Defense Pentagon, Washington, DC 20301-1155.

Written requests should contain the individual's full name, SSN, date of birth, and current address and telephone number.

Contesting record procedures:

The OSD rules for accessing records, for contesting contents and appealing initial agency determinations are published in OSD Administrative Instruction 81; 32 CFR part 311; or may be obtained from the system manager.

Record source categories:

The military services and the Joint Staff.

Exemptions claimed for the system:

None.

[FR Doc. 2011-5909 Filed 3-14-11; 8:45 am]

BILLING CODE 5001-06-P